DEPARTMENT OF DEFENSE

Office of the Secretary

[Transmittal No. 23-36]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-36, Policy Justification, and Sensitivity of Technology.

Dated: October 2, 2024.
Aaron T. Siegel,
Alternate OSD Federal Register Liaison Officer, Department of Defense.

BILLING CODE 6001-FR-P

BILLING CODE 6001-FR-C

Transmittal No. 23-36

Notice of Proposed Issuance of Letter of Offer Pursuant to Section 36(b)(1) of the Arms Export Control Act, as amended

(i) Prospective Purchaser: Government of Spain

(ii) Total Estimated Value:

Major Defense Equipment * | $32.8 million
Other | 15.4 million
Total | 48.2 million

(iii) Description and Quantity or Quantities of Articles or Services under Consideration for Purchase: Foreign Military Sales (FMS) case SP-B-WAT was below congressional notification threshold at $21.87 million ($12.20 million in MDE) and included one hundred eighteen (118) M982A1 Excalibur tactical projectiles. The Government of Spain has requested that the case be amended to include an additional one hundred fifty-three (153) M982A1 Excalibur tactical projectiles. This amendment will push the current case above the MDE notification threshold and thus requires notification of the entire case.

Major Defense Equipment (MDE):

Two hundred seventy-one (271) M982A1 Excalibur Tactical Projectiles

Non-MDE:

Also included is a portable electronic Fire Control System (FCS); Improved Platform Integration Kit; Propelling Charge Modular Artillery Charge System; Simple Key Loaders (SKL); crypto cable; training aids; technical data; U.S. Government technical assistance; transportation; Excalibur spare parts; artillery cleaning sections; new equipment training; repair and return support equipment; support related to collateral damage estimation tables; and other related elements of logistics and program support.

(iv) Military Department: Army (SP-B-WAT)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: June 14, 2023

* As defined in Section 47(6) of the Arms Export Control Act.

POLICY JUSTIFICATION

Spain—Excalibur Projectiles

The Government of Spain has requested to buy an additional one hundred fifty-three (153) M982A1 Excalibur tactical projectiles that will be added to a previously implemented case whose value was under the congressional notification threshold. The original FMS case, valued at $21.87 million, included one hundred eighteen (118) M982A1 Excalibur tactical projectiles. This notification is for a combined total of two hundred seventy-one (271) M982A1 Excalibur tactical projectiles. Also included is a portable electronic Fire Control System (FCS); Improved Platform Integration Kit; Propelling Charge Modular Artillery Charge System; Simple Key Loaders (SKL); crypto cable; training aids; technical data; U.S. Government technical assistance; transportation; Excalibur spare parts; artillery cleaning sections; new equipment training; repair and return support equipment; support related to collateral damage estimation tables; and other related elements of logistics and program support. The total estimated cost is $48.2 million.

This proposed sale will support the foreign policy and national security of the United States by improving the security of a NATO ally which is an important force for political stability and economic progress in Europe.

The proposed sale will improve Spain's capability to meet current and future threats and will enhance interoperability with U.S. forces and other allied forces. The enhanced capability will also strengthen its homeland defense. Spain will have no difficulty absorbing this equipment into its armed forces.

The proposed sale of this equipment and support will not alter the basic military balance in the region.

The principal contractor will be Raytheon Company Missile Systems, McAlester, OK. There are no known offset agreements proposed in connection with this potential sale.

Implementation of this sale will not require the assignment of any U.S. Government or contractor representatives to Spain.

There will be no adverse impact on U.S. defense readiness because of this proposed sale.

Transmittal No. 23-36

Notice of Proposed Issuance of Letter of Offer Pursuant to Section 36(b)(1) of the Arms Export Control Act

Annex

Item No. vii

(vii) Sensitivity of Technology:

1. The M982A1 Excalibur 155 mm, High Explosive Projectile is an all-up projectile with Global Positioning System (GPS)-aided precision guidance capability. The Excalibur provides the ability to accurately engage targets at distances up to 25 miles. Excalibur is commonly fired from U.S. Army and Marine Corps towed and self-propelled howitzer systems, including the M777 and M109.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Spain can provide substantially the same degree of protection for the sensitive technology being released as the U.S. Government. This sale is necessary in furtherance of the U.S. foreign policy and national security objectives outlined in the Policy Justification.

5. All defense articles and services listed in this transmittal have been authorized for release and export to the Government of Spain.

[FR Doc. 2024-23180 Filed 10-7-24; 8:45 am]

BILLING CODE 6001-FR-P